DEPARTMENT OF COMMERCE

National Oceanic and Atmospheric Administration

50 CFR Part 600

[I.D. 062800A]

Magnuson-Stevens Act Provisions; General Provisions for Domestic Fisheries; Applications for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has made a preliminary determination to issue EFPs to conduct experimental fishing operations otherwise restricted by the regulations governing the fisheries of the Northeastern United States. The Maine Department of Marine Resources (MEDMR) submitted an application for the issuance of EFPs to conduct experimental fishing with a maximum of 30 commercial fishing vessels, which warrants further consideration. The EFPs would allow commercial vessels to fish for, retain, and land silver hake (whiting) with mesh smaller than currently allowed in a portion of the Gulf of Maine/Georges Bank Regulated Mesh Area. These experiments would continue investigations designed to demonstrate the effectiveness of a bycatch reduction device (separator grate) assembled on small mesh silver hake (whiting) trawls with a raised footrope configuration. Although the number of trips would be capped at 40 1-day trips per vessel, it is anticipated that participation would be dictated by two interrelated factors: market value of whiting at the dock and the availability of the whiting at sea. Approximately 34 vessels were authorized to participate in last year's experiment from July 1-November 31, 1999, although enrollment periods fluctuated due to the factors identified above. Regulations under the Magnuson-Stevens Fishery Conservation and Management Act provisions require publication of this notification to provide interested parties the opportunity to comment on the proposed experimental fisheries.

DATES: Comments on this notice must be received by July 21, 2000.

ADDRESSES: Written comments should be sent to Patricia A. Kurkul, Regional Administrator, NMFS, Northeast Regional Office, 1 Blackburn Drive, Gloucester, MA 01930. Mark the outside of the envelope “Comments on Proposed EFP Proposal.” Comments may also be sent via facisimile (fax) to (978) 281-9135. Comments will not be accepted if submitted via e-mail or the Internet.

FOR FURTHER INFORMATION CONTACT: Bonnie Van Pelt, Fishery Management Specialist, 978-281-9244.

SUPPLEMENTARY INFORMATION: The MEDMR submitted an application to continue the experimental whiting separator trawl fishery (Separator Trawl Fishery) in the Small Mesh Northern Shrimp Area, a portion of the Gulf of Maine/Georges Bank Regulated Mesh Area. This will provide an additional opportunity to collect information on the effectiveness of the separator grate in combination with the raised footrope trawl configuration (with roller frames), in an effort to show that the separator trawl fishery results in a low bycatch fishery. Although this would be the sixth consecutive year of the experiment, data from previous years are sparse and inclusive, owing in part to three factors: low abundances of whiting in the experimental fishery area, declining market value of whiting, and patchy vessel participation. While monthly percent average bycatch of regulated multispecies was reported at less than 5 percent for sea sampling trips conducted during the 1999 experiment, there were only 11 sea sampling trips taken over the course of the entire season (July though November), with the majority (6 trips) monitoring the at-sea bait transfer fishing activity. As a result, there were insufficient data from the 1999 experimental fishery to demonstrate that the 5 percent bycatch criteria for establishing exempted fishing status could be met for the entire fishery (food and bait fishery components).

A separate component of last year's experiment was to conduct a series of gear trials with a raised footrope trawl configuration that has proved successful in reducing bycatch of flatfish species in small mesh experimental whiting fisheries in Cape Cod Bay, Massachusetts. While there were only twenty tows total conducted during last year's supplemental gear trials, these demonstrated that the raised footrope trawl could be successfully transferred to nets with roller frames (typically a chain sweep is used), and yielded promising results in demersal finfish bycatch reduction. Furthermore, increased cod end mesh size and grate bar spacing combinations tested by participating vessels in the Separator Trawl Fishery showed a considerable decrease in bycatch of small fish, while the addition of the raised footrope trawl showed an additional decrease in bycatch of small flatfish, whiting and red hake. Therefore, in order to gather sufficient data on the separator grate's ability (with and without the raised footrope trawl) to reduce bycatch of regulated species consistent with the requirement of an exempted fishery, as well as to determine whether the fishery as a whole can reach its economic potential, a continuation of the experiment is necessary.

Participants in the Separator Trawl Fishery will be required to elect either a food fishery or bait fishery component designation. However, the MEDMR has stated that the primary focus of this year's fishery will be on the bait fishery, specifically to provide bait for the tuna fishery. As in years past, participants may designate only one fishery component at a time for a minimum enrollment of 7 days. In order to ensure that the conservation priorities for whiting are continually met, the MEDMR has proposed that program participants be limited to landing up to 2,500 lb (1,134 kg) of whiting per trip and be allowed a maximum of 40 1-day trips per vessel. As an additional control measure, the MEDMR has proposed that participation be capped at 30 vessels. Participants will be required to submit timely catch and bycatch information in the form of specialized logbooks provided by MEDMR and through the completion of the NMFS' vessel trip reports required of all commercial fishers. NMFS will continue to look at logbook compliance issues—consistency in reporting and/or completeness of reports, when considering eligibility for enrollment into the program or continued participation once enrolled.

The MEDMR proposes to continue testing cod end/grate spacing combinations to reduce the bycatch of demersal finfish species, whiting and red hake as follows: cod end mesh sizes of 2 inch knotless square and 2-1/4 inch diamond mesh, and grate bar spacing of 40 mm and 50 mm. In addition, based on the promising findings from previous gear work, all participating vessels will be required to have a raised footrope trawl with 36 inch (0.91 m) dropper chains. The objective of this year's experiment is to reveal the optimal cod end/grate spacing, dropper chain length and ground gear configurations that would be the most effective in reducing bycatch and more selective in catching the appropriate sized whiting in accordance with whiting resource management strategies. The MEDMR also indicates they plan to use the information gained through the experimental gear work to formulate a request for a framework action in hopes of expanding future whiting fishing opportunities in the Gulf of Maine with small mesh.

The MEDMR intends to provide sea sampling coverage to monitor fishing activity and gear performance throughout the course of the experiment, at an estimated frequency of two trips per week. Because of the importance of sufficient sea sampling, the Regional Administrator is considering whether her approval of the fishery should be conditional, with possible withdrawal of approval if the actual level of coverage does not meet the specified level. Periodic reports on the fishery will be required to ensure that the MEDMR continues to meet the required level of observer coverage. The Regional Administrator seeks comment on this issue.

EFPs would be issued to the participating vessels in accordance with the conditions stated therein, and will exempt vessels from the mesh size, days-at-sea, and other gear restrictions of the Northeast Multispecies Fishery Management Plan.

Authority: 16 U.S.C. 1801 et seq.

Dated: June 29, 2000.
Bruce C. Morehead,
Acting Director, Office of Sustainable Fisheries, National Marine Fisheries Service.

[FR Doc. 00-17112 Filed 7-5-00; 8:45 am]

BILLING CODE 3510-22-F